INTERNATIONAL TRADE COMMISSION

[Investigation No. 337-TA-1413]

Certain Wireless Front-End Modules and Devices Containing the Same; Notice of Commission Decision Not To Review an Initial Determination Granting Motion To Amend the Complaint and Notice of Investigation

AGENCY: U.S. International Trade Commission.

ACTION: Notice.

SUMMARY: Notice is hereby given that the U.S. International Trade Commission has determined not to review an initial determination (“ID”) (Order No. 17) of the presiding administrative law judge (“ALJ”) granting complainants' motion to amend the complaint and notice of investigation to assert additional patent claims.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 22, 2024, the Commission instituted this investigation based on a complaint filed on behalf of complainants Skyworks Solutions, Inc. of Irvine, California; Skyworks Solutions Canada, Inc. of Ottawa, Canada; and Skyworks Global Pte. Ltd. of Singapore (collectively, “Skyworks”). 89 FR 67969-70 (Aug. 22, 2024). The complaint, as supplemented, alleges violations of section 337 of the Tariff Act of 1930, as amended, 19 U.S.C. 1337, based upon the importation into the United States, the sale for importation, or sale within the United States after importation of certain wireless front-end modules and devices containing the same by reason of the infringement of certain claims of U.S. Patent Nos. 8,717,101; 9,917,563; 7,409,200 (“the '200 patent”); 9,450,579 (“the '579 patent”); and 9,148,194. Id. The notice of investigation names the following respondents: Kangxi Communication Technologies (Shanghai) Co., Ltd. of Shanghai, China; Grand Chip Labs, Inc. of Tustin, California; D-Link Corporation of Taipei, Taiwan; D-Link Systems Inc. of Irvine, California; and Ruijie Networks Co., Ltd. of Fuzhou, China (collectively, “Respondents”). Id. The Office of Unfair Import Investigations (“OUII”) is also a party to the investigation. Id.

On November 1, 2024, Skyworks filed a motion (“Motion”) to terminate the investigation as to the '200 patent based on the withdrawal of the complaint as to that patent. The Motion also seeks to amend the complaint and notice of investigation to further assert dependent claims 2, 3, 8, and 9 of the '579 patent (“the added patent claims”). The Motion is unopposed with respect to the partial termination of the investigation as to the '200 patent, but is opposed with respect to the requested amendment to assert additional dependent claims of the '579 patent. On November 13, 2024, some of the Respondents filed a response, in which other Respondents later joined on November 15, 2024, in opposition to Skyworks' request to amend the complaint and notice of investigation. On November 13, 2024, OUII filed a response in support of Skyworks' requested amendment.

On November 8, 2024, the ALJ issued an ID (Order No. 13) granting the Motion with respect to the partial termination of the investigation as to the '200 patent. Order No. 13 (Nov. 8, 2024), unreviewed by Comm'n Notice (Dec. 10, 2024). On December 31, 2024, the ALJ issued the subject ID (Order No. 17) granting Complainants' motion to amend the complaint and notice of investigation pursuant to Commission Rule 210.14(b)(1) (19 CFR 210.14(b)(1)). The ID finds good cause to amend because “adjudicating the [added patent claims] in this Investigation serves the public interest by conserving the Commission's and the Parties' resources” and “[t]he added claims are related to claims already being litigated.” ID at 9.

No petition for review of the subject ID was filed.

The Commission has determined not to review the subject ID. The complaint and notice of investigation are amended to include the added patent claims.

The Commission's vote for this determination took place on January 27, 2025.

The authority for the Commission's determination is contained in section 337 of the Tariff Act of 1930, as amended (19 U.S.C. 1337), and in part 210 of the Commission's Rules of Practice and Procedure (19 CFR part 210).

By order of the Commission.
Issued: January 28, 2025.
Lisa Barton,
Secretary to the Commission.

[FR Doc. 2025-02057 Filed 1-30-25; 8:45 am]

BILLING CODE 7020-02-P